DEPARTMENT OF STATE

[Public Notice: 10288]

Meeting of the United States-Jordan Joint Forum on Environmental Technical Cooperation and Request for Comments on the Meeting Agenda and the 2018-2021 Work Program

AGENCY: Department of State.

ACTION: Announcement of meeting; solicitation of comments; invitation to public session.

SUMMARY: The Department of State is providing notice that the governments of the United States and the Hashemite Kingdom of Jordan (the governments) intend to hold a Joint Forum on Environmental Technical Cooperation (Joint Forum) and a public session in Amman, Jordan, on February 12, 2018.

The governments created the Joint Forum pursuant to the United States-Jordan Joint Statement on Environmental Technical Cooperation (Joint Statement) in concert with the United States-Jordan Free Trade Agreement (FTA), both concluded on October 24, 2000. During the Joint Forum, the governments will discuss how the United States and Jordan can cooperate to protect the environment, review past bilateral environmental cooperation, and approve a 2018-2021 Work Program on Environmental Technical Cooperation (Work Program). The Department of State invites members of the public to submit written comments on items to include on the meeting agenda or in the 2018-2021 Work Program.

The Department of State also invites interested persons to attend a public session to learn more about the work of the Joint Forum and the new Work Program and provide advice or comments on its implementation.

DATES: The public session will be held on February 12, 2018, in Amman, Jordan. Comments on the Joint Forum meeting agenda and/or the 2018-2021 Work Program should be provided no later than February 8, 2018, to facilitate consideration.

ADDRESSES: Those interested in attending the public session should email Tiffany Prather at PratherTA@state.gov. Comments on the Joint Forum meeting agenda and/or the 2018-2021 Work Program should be emailed to PratherTA@state.gov or faxed to Tiffany Prather at (202) 647-5947, with the subject line “United States-Jordan Environmental Cooperation.”

FOR FURTHER INFORMATION CONTACT: Tiffany Prather, (202) 647-4548.

SUPPLEMENTARY INFORMATION: The United States and Jordan announced the establishment of the Joint Forum in the Joint Statement done on October 24, 2000, along with the FTA. The Joint Forum meets regularly and advances environmental protection in Jordan by developing technical cooperation initiatives, which take into account environmental priorities, and which are agreed to by the governments.

The Joint Forum has met four times since 2000, in 2004, 2009, 2012, and 2014, and issued Work Programs to implement the Joint Statement. The United States anticipates the 2018-2021 Work Program will build upon this prior cooperation.

Members of the public, including non-governmental organizations, educational institutions, private sector enterprises, and all other interested persons, are invited to submit written comments regarding items for inclusion in the meeting agenda or in the new Work Program. Please include your full name and identify any organization or group you represent. We encourage submitters to refer to:

• United States-Jordan Joint Statement on Environmental Technical Cooperation;

• United States-Jordan 2014-2017 Work Program on Environmental Technical Cooperation;

• United States-Jordan 2012-2013 Work Program on Environmental Technical Cooperation;

• United States-Jordan 2008-2011 Work Program on Environmental Technical Cooperation;

• Article 5 of the United States-Jordan Free Trade Agreement; and

• Environmental Review of the United States-Jordan Free Trade Agreement.

These documents are available at: http://www.state.gov/e/oes/eqt/trade/jordan/index.htm.

Carol Volk,
Acting Director, Office of Environmental Quality and Transboundary Issues, U.S. Department of State.

[FR Doc. 2018-01458 Filed 1-25-18; 8:45 am]

BILLING CODE 4710-09-P